NUCLEAR REGULATORY COMMISSION

[Docket Nos. 52-025 and 52-026; NRC-2024-0155]

Southern Nuclear Operating Company; Vogtle Electric Generating Plant, Units 3 and 4; Exemption

AGENCY: Nuclear Regulatory Commission.

ACTION: Notice; issuance.

SUMMARY: The U.S. Nuclear Regulatory Commission (NRC) is granting an exemption in response to a request dated March 22, 2024, as supplemented by letter dated August 14, 2024, from Southern Nuclear Operating Company, Inc. (SNC, the licensee), seeking an exemption from specific regulations that require periodic updates of the Vogtle Electric Generating Plant, Units 3 and 4, Updated Final Safety Analysis Reports.

DATES: The exemption was issued on September 9, 2024.

ADDRESSES: Please refer to Docket ID NRC-2024-0155 when contacting the NRC about the availability of information regarding this document. You may obtain publicly available information related to this document using any of the following methods:

• Federal Rulemaking Website: Go to https://www.regulations.gov and search for Docket ID NRC-2024-0155. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The SNC exemption request dated March 22, 2024, and the supplemental letter dated August 14, 2024, are available in ADAMS under Accession Nos. ML24085A711 and ML24227A595, respectively.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: John Lamb, Office of Nuclear Reactor Regulation, U.S. Nuclear Regulatory Commission, Washington, DC 20555-0001, telephone: 301-415-3100, email: John.Lamb@nrc.gov.

SUPPLEMENTARY INFORMATION: The text of the exemption is attached.

Dated: September 11, 2024.
For the Nuclear Regulatory Commission.
John Lamb,
Senior Project Manager, Plant Licensing Branch 2-1, Division of Operating Reactor Licensing, Office of Nuclear Reactor Regulation.

Attachment—Exemption

Nuclear Regulatory Commission

Docket Nos. 52-025 and 52-026

Southern Nuclear Operating Company Vogtle Electric Generating Plant, Units 3 and 4; Exemptions

I. Background

Southern Nuclear Operating Company (SNC, the licensee) is the holder of Combined License Nos. NPF-91 and NPF-92 for the Vogtle Electric Generating Plant (Vogtle), Units 3 and 4, respectively. The licenses provide, among other things, that the licensee is subject to all rules, regulations, and orders of the U.S. Nuclear Regulatory Commission (NRC, the Commission) now or hereafter in effect. These facilities consist of two pressurized-water reactors located at the licensee's site in Burke County, Georgia, respectively.

II. Request/Action

In accordance with section 50.71 of title 10 of the Code of Federal Regulations (10 CFR), “Maintenance of records, making of reports,” paragraph (e)(4) states, in part, that “Subsequent revisions [to the Updated Final Safety Analysis Report (UFSAR) submitted as part of the original license application] must be filed annually or 6 months after each refueling outage provided the interval between successive updates [to the UFSAR] does not exceed 24 months.” The regulation at Appendix D to 10 CFR part 52, Section X.B.2, regarding Final Safety Analysis Report (FSAR) updates, requires that, “An applicant or licensee who references this appendix shall submit updates to its DCD [design control document], which reflect the generic changes to and plant-specific departures from the generic DCD made under Section VIII [Processes for Changes and Departures] of this appendix. These updates must be filed under the filing requirements applicable to final safety analysis report updates in 10 CFR 52.3 and 50.71(e).” The regulation at Appendix D to 10 CFR part 52, Section X.B.3.c, requires that, “After the Commission makes the finding required by 10 CFR 52.103(g), the reports and updates to the plant-specific DCD must be submitted, along with updates to the site-specific portion of the final safety analysis report for the facility, at the intervals required by 10 CFR 50.59(d)(2) and 50.71(e)(4), respectively, or at shorter intervals as specified in the license.”

By letter dated March 22, 2024 (Agencywide Documents Access and Management System (ADAMS) Accession No. ML24085A711), as supplemented by letter dated August 14, 2024 (ML24227A595), SNC requested that the due date for submittal of the Vogtle, Units 3 and 4, UFSAR be by June 30 of every odd-numbered year, provided the interval between successive updates does not exceed 24 months.

III. Discussion

Pursuant to 10 CFR 50.12, “Specific exemptions,” the NRC may, upon application by any interested person or upon its own initiative, grant exemptions from the requirements of 10 CFR part 50, “Domestic Licensing of Production and Utilization Facilities,” including 10 CFR 50.71(e)(4) when: (1) the exemptions are authorized by law, will not present an undue risk to the public health and safety, and are consistent with the common defense and security; and (2) special circumstances are present. Under 10 CFR 50.12(a)(2), special circumstances include, among other things, whenever application of the regulation in the particular circumstances would not serve, or is not necessary to achieve, the underlying purpose of the rule. The regulation at 10 CFR 52.7 indicates consideration of requests for exemption from requirements of the regulations of other parts in 10 CFR, which are applicable by virtue of 10 CFR part 52, shall be governed by the exemption requirements of those parts. Here, the exemption requested from 10 CFR part 50 is applicable by virtue of Appendix D to 10 CFR part 52, Appendix D, Sections X.B.2 and X.B.3.c, which incorporates the requirements of 10 CFR 50.71(e). Therefore, the Commission's consideration of requests for exemptions from the regulations in part 52 will be governed by 10 CFR 50.12.

A. Exemptions Are Authorized by Law

The regulation at 10 CFR 50.71(e)(4) requires revisions to UFSARs to be filed annually or 6 months after each refueling outage, provided the interval between successive updates does not exceed 24 months.¹ The underlying purpose of the regulation is to ensure that the licensee periodically updates its UFSAR so that the UFSAR remains up-to-date and accurately reflects the plant design and operation. The proposed exemption would change the current UFSAR submittal schedule for Vogtle, Units 3 and 4, to a calendar-based schedule that would not exceed the maximum 24 months between successive updates as required by 10 CFR 50.71(e)(4). Submitting the UFSAR updates for Vogtle, Units 3 and 4, as proposed by June 30 of the odd year continues to meet the intent of the regulation and maintaining UFSAR information up-to-date. The NRC staff has determined that granting the licensee's proposed exemptions will not result in a violation of the Atomic Energy Act of 1954, as amended, or the Commission's regulations. Therefore, these exemptions are authorized by law.

¹ Appendix D to 10 CFR part 52, Sections X.B.2 and X.B.3.c require submissions of USFAR at intervals required by 10 CFR 50.71.

B. The Exemptions Present No Undue Risk to Public Health and Safety

The underlying purpose of 10 CFR 50.71(e)(4) is to ensure that licensees periodically update their UFSARs so that the UFSARs remain up-to-date and accurately reflect the plant design and operation. The NRC has determined by rule that an update frequency not exceeding 24 months between successive updates is acceptable for maintaining up-to-date UFSAR content. While the regulation requires, in part, that UFSAR updates be submitted “annually or 6 months after each refueling outage,” it allows the submission of such updates on a different schedule, “provided the interval between successive updates does not exceed 24 months.” The requested exemptions also meet the underlying purpose of the rule for regulatory burden reduction. Additionally, based on the nature of the requested exemption and the requirement that updates will not exceed 24 months from the last submittal as described in this notice, no new accident precursors are created by the exemption; therefore, neither the probability nor the consequences of postulated accidents are increased. In conclusion, the requested exemptions do not result in any undue risk to the public health and safety.

C. The Exemptions Are Consistent With the Common Defense and Security

The requested exemptions from 10 CFR 50.71(e)(4) and Appendix D to 10 CFR part 52, Sections X.B.2 and X.B.3.c, would allow SNC to submit its periodic updates to the Vogtle, Units 3 and 4, UFSAR by June of odd-numbered years, not to exceed 24 months from the last submittal. Neither the regulation nor the proposed exemption has any relation to security issues. Therefore, the common defense and security is not impacted by the exemption.

D. Special Circumstances

Special circumstances, in accordance with 10 CFR 50.12(a)(2)(ii), are present whenever application of the regulation in the particular circumstances would not serve the underlying purpose of the rule or is not necessary to achieve the underlying purpose of the rule. The underlying purpose of the rule is to ensure that an updated FSAR will be available to be used in subsequent reviews or activities concerning that facility performed by the licensee, the Commission, and other interested parties—with the original reporting requirement set such that subsequent revisions shall be filed no less frequently than annually. (45 FR 30614; May 9, 1980). The rule change promulgated in August 1992 (57 FR 39358; August 31, 1992) was intended to provide a reduction in regulatory burden by providing licensees with the option to submit FSAR updates once per refueling outage, not to exceed 24 months between successive updates, instead of annually. The rule change promulgated in 1992 provided the second option to submit the FSAR updates on a frequency not to exceed 24 months, tied to the refueling cycle upon the basis that the majority of the facility design changes are affected during the refueling outage and, therefore, the use of the refueling cycle provides for a current plant status document that is coordinated with plant changes. Currently, Vogtle, Units 3 and 4, submit a combined UFSAR for each site every 18 months, not to exceed 24 months from the last submittal.

SNC stated in the letter dated August 14, 2024:

With respect to decoupling the reporting frequency from refueling outages as discussed in the statements of consideration, in order to reduce outage time, the majority of facility design changes are no longer implemented during refueling outages, separating the implementation of the “majority of facility design changes” from refueling outages. Thus, associating the updates with a refueling outage is no longer necessary to meet the underlying purpose of the regulation, and providing updates on a periodic basis will continue to provide the updated information to the NRC on a timely basis. Therefore, the application of the regulation is not necessary to achieve the underlying purpose of the rule.

Tying the processing and submittal of the UFSAR to the refueling cycle is not necessary to achieve the underlying purpose of the rule because the majority of the facility design changes are not implemented during refueling outages. Therefore, as the licensee will be providing updated FSARs on a periodic, timely basis, consistent with the maximum 24-month interval between submittals as required by the regulation, the underlying purpose of the rule will still be met, which is to ensure that an updated FSAR will be available for use in subsequent reviews or activities concerning Vogtle Units 3 and 4. Therefore, special circumstances exist under 10 CFR 50.12(a)(2)(ii) in that application of the requirements in these particular circumstances are not necessary to achieve the underlying purpose of the rule. Pursuant to 10 CFR 52.7, the Commission's consideration of the request for exemptions from Appendix D to 10 CFR part 52, Sections X.B.2 and X.B.3.c. are governed by the exemption requirements of 10 CFR part 50, and as special circumstances are present for the exemption for 10 CFR 50.71(e), special circumstances are also present for the exemptions from Appendix D to 10 CFR part 52, Sections X.B.2 and X.B.3.c.

E. Environmental Considerations

With respect to the impact of the exemptions on the quality of the human environment, the NRC has determined that the issuance of the exemptions discussed herein meets the eligibility criteria for categorical exclusion from the requirement to prepare an environmental assessment or environmental impact statement, set forth in 10 CFR 51.22(c)(25).

Under 10 CFR 51.22(c)(25), the granting of an exemption from the requirements of any regulation of 10 CFR chapter I (which includes 10 CFR 50.71(e)(4), and Appendix D to 10 CFR part 52, Sections X.B.2, and X.B.3.c) is an action that is a categorical exclusion, provided that certain specified criteria are met. The basis for NRC's determination is provided in the following evaluation of the requirements in 10 CFR 51.22(c)(25)(i)-(vi).

Requirements in 10 CFR 51.22(c)(25)(i)

To qualify for a categorical exclusion under 10 CFR 51.22(c)(25)(i), the exemption must involve no significant hazards consideration. The criteria for determining whether an action involves a significant hazards consideration are found in 10 CFR 50.92. The proposed action involves only a schedule change regarding the submission of an update to the UFSAR. As set forth in that regulation, there are no significant hazard considerations because granting the exemptions would not: (1) involve a significant increase in the probability or consequences of an accident previously evaluated; or (2) create the possibility of a new or different kind of accident from any accident previously evaluated; or (3) involve a significant reduction in a margin of safety.

Requirements in 10 CFR 51.22(c)(25)(ii)

There is no significant change in the types or significant increase in the amounts of any effluents that may be released offsite. The proposed action involves only a schedule change, which is administrative in nature, and does not involve any changes in the types or increase in the amounts of any effluents that may be released offsite.

Requirements in 10 CFR 51.22(c)(25)(iii)

There is no significant increase in individual or cumulative public or occupational radiation exposure. Since the proposed action involves only a schedule change, which is administrative in nature, it does not contribute to any significant increase in individual or cumulative public or occupational radiation exposures.

Requirements in 10 CFR 51.22(c)(25)(iv)

There is no significant construction impact. Since the proposed action involves only a schedule change related to the timing for submittal of UFSAR updates, which is administrative in nature, it does not involve any construction impact.

Requirements in 10 CFR 51.22(c)(25)(v)

There is no significant increase in the potential for or consequences from radiological accidents. The proposed action involves only a schedule change related to the timing for submittal of UFSAR updates, which is administrative in nature and does not impact the potential for or consequences from radiological accidents.

Requirements in 10 CFR 51.22(c)(25)(vi)

The requirements from which the exemption is sought involve recordkeeping, reporting, scheduling, or other requirements of an administrative, managerial, or organizational nature. The proposed action involves recordkeeping, reporting, and scheduling requirements, and other requirements of an administrative, managerial, or organizational nature because it is associated with the schedule for submittal of UFSAR updates pursuant to 10 CFR 50.71(e)(4) and meets that regulation's requirement that the interval between successive updates does not exceed 24 months.

Based on the previously noted requirements, the NRC staff concludes that the proposed exemptions meet the eligibility criteria for the categorical exclusion set forth in 10 CFR 51.22(c)(25). Therefore, in accordance with 10 CFR 51.22(b), no environmental impact statement or environmental assessment need be prepared in connection with the NRC's issuance of these exemptions.

IV. Conclusions

Accordingly, the Commission has determined that, pursuant to 10 CFR part 50.12, the requested exemptions are authorized by law, will not present an undue risk to public health and safety, and are consistent with the common defense and security. Also, special circumstances, pursuant to 10 CFR 50.12(a)(2)(ii), are present. Therefore, the NRC hereby grants SNC exemptions from the requirements of 10 CFR 50.71(e)(4) and 10 CFR part 52, Appendix D, Sections X.B.2 and X.B.3.c to allow SNC to file its periodic updates to the Vogtle, Units 3 and 4, UFSAR by June 30 of odd-numbered years, not to exceed 24 months from the last submittal.

The exemptions are effective upon issuance.

Dated: September 9, 2024,

For the Nuclear Regulatory Commission.

/RA/

Jamie Pelton, Deputy Director,

Division of Operating Reactor Licensing, Office of Nuclear Reactor Regulation.

[FR Doc. 2024-20972 Filed 9-13-24; 8:45 am]

BILLING CODE 7590-01-P